DEPARTMENT OF HEALTH AND HUMAN SERVICES

National Institutes of Health

National Institute of Dental & Craniofacial Research; Notice of Meeting

Pursuant to section 10(d) of the Federal Advisory Committee Act, as amended (5 U.S.C. Appendix 2), notice is hereby given of a meeting of the Board of Scientific Counselors, National Institute of Dental and Craniofacial Research.

The meeting will be open to the public as indicated below, with attendance limited to space available. Individuals who plan to attend and need special assistance, such as sign language interpretation or other reasonable accommodations, should notify the Contact Person listed below in advance of the meeting.

The meeting will be closed to the public as indicated below in accordance with the provisions set forth in section 552b(c)(6), Title 5 U.S.C., as amended for the review, discussion, and evaluation of individual intramural programs and projects conducted by the National Institute of Dental & Craniofacial Research, including consideration of personnel qualifications and performance, and the competence of individual investigators, the disclosure of which would constitute a clearly unwarranted invasion of personal privacy.

Name of Committee: Board of Scientific Counselors, National Institute of Dental and Craniofacial Research Review of Gene Therapy & Therapeutics Branch and Molecular Structural Biology Unit.

Date: December 1-3, 2004.

Closed: December 1, 2004, 7 p.m. to 8:30 p.m.

Agenda: To review and evaluate personal qualifications and performance, and competence of individual investigators.

Place: Bethesda Marriott, 5151 Pooks Hill Road, Bethesda, MD 20814.

Open: December 2, 2004, 8:30 a.m. to 11:30 a.m.

Agenda: Laboratory Presentations.

Place: National Institutes of Health, Building 30, Conference Room 117, 30 Convent Drive, Bethesda, MD 20892.

Closed: December 2, 2004, 11:30 a.m. to 1:30 p.m.

Agenda: To review and evaluate personal qualifications and performance, and competence of individual investigators.

Place: National Institutes of Health, Building 30, Conference Room 117, 30 Convent Drive, Bethesda, MD 20892.

Open: December 2, 2004, 1:30 p.m. to 4:10 p.m.

Agenda: Laboratory Presentations.

Place: National Institutes of Health, Building 30, Conference Room 117, 30 Convent Drive, Bethesda, MD 20892.

Closed: December 2, 2004, 4:10 p.m. to 6 p.m.

Agenda: To review and evaluate personal qualifications and performance, and competence of individual investigators.

Place: National Institutes of Health, Building 30, Conference Room 117, 30 Convent Drive, Bethesda, MD 20892.

Open: December 3, 2004, 8:15 a.m. to 10:45 a.m.

Agenda: Laboratory Tours, Poster Presentations.

Place: National Institutes of Health, Building 30, Conference Room 117, 30 Convent Drive, Bethesda, MD 20892.

Closed: December 3, 2004, 10:45 a.m. to 4:30 p.m.

Agenda: To review and evaluate personal qualifications and performance, and competence of individual investigators.

Place: National Institutes of Health, Building 30, Conference Room 117, 30 Convent Drive, Bethesda, MD 20892.

Contact Person: Norman S. Braveman, Assistant to the Director, NIH-NIDCR, 31 Center Drive, Bldg. 31, Room 5B55, Bethesda, MD 20892, 301 594-2089, norman.braveman@nih.gov.

Information is also available on the Institute's/Center's home page: http://www.nidcr.nih.gov/about/CouncilCommittees.asp, where an agenda and any additional information for the meeting will be posted when available.

(Catalogue of Federal Domestic Assistance Program Nos. 93.121, Oral Diseases and Disorders Research, National Institutes of Health, HHS)

Dated: November 1, 2004.
Anna Snouffer,
Acting Director, Office of Federal Advisory Committee Policy.

[FR Doc. 04-25022 Filed 11-9-04; 8:45 am]

BILLING CODE 4140-01-M